GENERAL SERVICES ADMINISTRATION

[Notice—IEB-2024-00; Docket No. 2024-0002; Sequence No. 14]

Privacy Act of 1974; System of Records

AGENCY: Office of Enterprise Data & Privacy Management; General Services Administration (GSA).

ACTION: Rescindment of a System of Records Notice.

SUMMARY: Pursuant to the provisions of the Privacy Act of 1974, notice is given that the General Services Administration (GSA) proposes to rescind a System of Records Notice, GSA/PPFM-10, Purchase Card Program. This system of records provides control over expenditure of funds through the use of Federal Government purchase cards.

DATES: This system of records stopped being maintained in 2008.

ADDRESSES: Comments may be submitted to the Federal eRulemaking Portal, http://www.regulations.gov. Submit comments by searching for GSA/PPFM-10.

FOR FURTHER INFORMATION CONTACT: Call or email Richard Speidel, Chief Privacy Officer at (202) 969-5830 and gsa.privacyact@gsa.gov.

SUPPLEMENTARY INFORMATION: GSA proposes to rescind a System of Records Notification, GSA/PPFM-10. This Notice is being rescinded due to the records of GSA/PPFM-10 being integrated into the government-wide SORN GSA SmartPay Purchase Charge Card Program (GSA/GOVT-6), beginning in 2008. This action is being taken to ensure that only one SORN covers the pertinent records.

SYSTEM NAME AND NUMBER:

Purchase Card Program, GSA/PPFM-10.

HISTORY:

This system was previously published in the Federal Register at 66 FR 39170, July 27, 2001, 70 FR 60347, October 17, 2005, 71 FR 48752, August 21, 2006, and 73 FR 22396, April 25, 2008.

Richard Speidel,
Chief Privacy Officer, Office of Enterprise Data & Privacy Management, General Services Administration.

[FR Doc. 2024-06724 Filed 3-28-24; 8:45 am]

BILLING CODE 6820-AB-P